DEPARTMENT OF COMMERCE

National Oceanic and Atmospheric Administration

RIN 0648-XA02

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation for activities conducted under the General Authorization for Scientific Research on marine mammals. See SUPPLEMENTARY INFORMATION for a list of names and addresses of recipients.

ADDRESSES: The Letters of Confirmation and related documents are available for review upon written request or by appointment in the following office:

Permits, Conservation and Education Division, Office of Protected Resources, NMFS, 1315 East-West Highway, Room 13705, Silver Spring, MD 20910; phone (301) 713-2289; fax (301) 713-0376.

FOR FURTHER INFORMATION CONTACT: Office of Protected Resources, Permits Division, (301) 713-2289.

SUPPLEMENTARY INFORMATION: The requested Letters of Confirmation (LOC) have been issued under the authority of the Marine Mammal Protection Act of 1972, as amended (16 U.S.C. 1361 et seq.), and the regulations governing the taking and importing of marine mammals (50 CFR part 216). The General Authorization allows for bona fide scientific research that may result only in taking by level B harassment of marine mammals. The following Letters of Confirmation were issued in Fiscal Year 2010.

File No. 14579: Issued to Dr. Susan Shaw, Marine Environmental Research Institute, Blue Hill, ME on October 28, 2009, for aerial and vessel surveys to census harbor seals (Phoca vitulina) and gray seals (Halichoerus grypus) in and around pinniped haulouts in the Blue Hill Bay area of the Gulf of Maine. Harp seals (Pagophilus groenlandica) and hooded seals (Cystophora cristata) may be harassed incidental to these surveys. The authorization is valid through October 31, 2014.

File No. 14903: Issued to Lisa Sette, Provincetown Center for Coastal Studies, Provincetown, MA, on March 3, 2010, authorizes vessel and land based surveys, photo-identification and behavioral observations of gray seals and harbor seals along the coast of Cape Cod, MA. The purpose of the research is to provide information on the haul-out structure and possible distribution shifts around New England. The research will provide a foundation for long-term studies of pinniped populations in the study area as well as aid in the development of a photo-ID catalogue. The LOC expires on March 1, 2015.

File No. 15141: Issued to Petra Bertilsson-Friedman, Montauk, NY, on March 3, 2010, authorizes behavioral observations and photo-identification of harbor seals, gray seals, and harp seals hauled out in Montauk, NY. The objective of the research is to examine the abundance and structure of two different seal haul out sites [Montauk Point State Park (rocky coast) and Shagwong Point (sandy beach)] to determine how habitat features and anthropogenic disturbance influences haul out choice. The researcher will also provide photo-ID data to Ms. Sette (File No. 14903) to include in the photo-ID catalogue. The LOC expires on March 1, 2015.

File No. 15369: Issued to Mari Smultea, Issaquah, WA, on April 23, 2010, authorizes aerial surveys, photo-identification, video, and behavioral observations of 21 cetacean species and three pinniped species in the U.S. Navy's Southern California Range Complex (SOCAL) in the Pacific Ocean. The purpose of the research is to collect baseline data on the abundance and distribution of cetaceans and pinnipeds within the SOCAL. The surveys are supported by the Navy as part of their Marine Species Monitoring Plan. The LOC expires on December 15, 2014.

File No. 13729-01: Issued to The Wild Dolphin Project, Jupiter, FL, on June 8, 2010, authorizes close approach, photo-identification, and behavioral observations of cetaceans within the Intracoastal Waterway from southern Martin County to the Florida Keys, and in the adjacent Atlantic Ocean from the coast to 20 miles into the Gulf Stream. This amendment expands the study to include Atlantic spotted dolphins (Stenella frontalis) inhabiting Atlantic waters along the Florida Keys and authorizes surveys year-round. The purpose of the research is to study the abundance, distribution, and residency of cetaceans in the Intracoastal Waterway (ICW) as well as offshore of Palm Beach County, Florida, down to the Florida Keys. The LOC expires on February 28, 2014, and supersedes LOC No. 13729, issued on February 13, 2009.

File No. 15409: Issued to Dr. David Johnston, Duke University, Beaufort, NC, on June 8, 2010, authorizes vessel surveys, photo-identification and behavioral observations of seven dolphin species and nine whale species in the nearshore waters of the Hawaiian Islands and American Samoa. The purpose of the research is to collect baseline data on the stock structure and population dynamics of cetaceans within the Pacific Islands Region. The LOC expires on June 15, 2015.

File No. 15459: Issued to Jennifer Lewis, Florida International University, Miami, FL, on June 18, 2010, authorizes photo-identification and behavioral surveys of bottlenose dolphins (Tursiops truncatus) within the borders of the Lower Florida Keys, Florida Keys National Marine Sanctuary, and Everglades National Park. The purpose of the research is to study factors influencing habitat use, ranging patterns, behavioral variation, and population structure of bottlenose dolphins in southern Florida waters. The LOC expires on July 1, 2015.

File No. 14646: Issued to Dr. Laela Sayigh, Woods Hole Oceanographic Institution, Woods Hole, MA on June 29, 2010, for close approach, photo-identification, passive acoustic recordings, behavioral observations, and focal follows of seven marine mammal species, including long-finned pilot whales (Globicephala melas), Atlantic white-sided dolphins (Lagenorhynchus acutus), and common dolphins (Delphinus delphis). The primary study area is Cape Cod Bay, but research efforts may also occur in the Gulf of Maine (including Massachusetts Bay) and the Stellwagen Bank National Marine Sanctuary. The purpose of the research is to investigate the phenomenon of mass strandings and try to improve the ability to predict such events. The LOC expires on July 1, 2015.

File No. 15512: Issued to Dr. Shannon Gowans, Eckerd College, St. Petersburg, FL on July 9, 2010, authorizes vessel surveys for close approach, photo-identification, passive acoustic recordings, and behavioral observations of bottlenose dolphins in the Gulf of Mexico from Clearwater to Tampa Bay, Florida. The purpose of the research is to monitor this population of bottlenose dolphins, estimate abundance, investigate trends in population size, spatial distribution, and changes in distribution over time. The LOC expires on July 15, 2015.

File No. 15477: Issued to Isidore Szczepaniak, Pacifica, CA on July 16, 2010, authorizes vessel surveys for close approach, photo-identification, and behavioral observations of the San Francisco-Russian River Stock of harbor porpoise (Phocoena phocoena) and bottlenose dolphins in the waters of San Francisco Bay and adjacent Pacific Ocean coastal waters in Northern California, between Bodega Bay in the north and Half Moon Bay in the south. The purpose of the research is to document the harbor porpoise's range reestablishment and the likely causes of its reappearance in San Francisco Bay, and to document interactions between harbor porpoise and bottlenose dolphins. The LOC expires on July 31, 2015.

File No. 919-1797: Issued to Dr. Donald Baltz, Louisiana State University, Baton Rouge, LA on July 7, 2005 was extended on July 27, 2010. The purpose of the research is to estimate abundance and conduct behavioral observations and photo-identification of bottlenose dolphins in the bays and coastal waters of Louisiana and Mississippi. The LOC was extended from July 31, 2010 until July 31, 2011.

File No. 15631: Issued to Marilyn Mazzoil, Harbor Branch Oceanographic Institute, Fort Pierce, FL on August 24, 2010, authorizes photo-identification and behavioral surveys of bottlenose dolphins in the Indian River Lagoon Estuary, Florida and adjacent Atlantic Ocean coastal waters from Ponce Inlet to Jupiter Inlet out to 3 km offshore. The purpose of the research is to investigate the abundance, distribution, and stock structure of Western North Atlantic coastal and offshore bottlenose dolphins. The LOC expires on August 31, 2015.

File No. 808-1798-02: Issued to Dr. Andrew Read, Duke University Marine Laboratory, Beaufort, NC on September 27, 2010, authorizes vessel and aerial surveys, close approach, photo-identification, observation of dolphin/fishery interactions, focal animal sampling, and passive acoustics of 19 cetacean species. Research activities may occur year-round from the North Carolina/Virginia border, south to 29° N (Florida), in coastal waters and out to 100 nm offshore. The purpose of the amendment is to extend the duration of the study from September 30, 2010 to March 30, 2011. This amended GA LOC supersedes version 808-1798-01, issued on May 1, 2009.

In compliance with the National Environmental Policy Act of 1969 (42 U.S.C. 4321 et seq.), a final determination has been made that the activities are categorically excluded from the requirement to prepare an environmental assessment or environmental impact statement.

Dated: October 21, 2010.
P. Michael Payne,
Chief, Permits, Conservation and Education Division, Office of Protected Resources, National Marine Fisheries Service.

[FR Doc. 2010-27176 Filed 10-26-10; 8:45 am]

BILLING CODE 3510-22-P